DEPARTMENT OF THE INTERIOR

Bureau of Land Management

[AK-040-00-1410-00; AA-64705]

Realty Action; FLPMA Section 302 Lease, Farewell Area

AGENCY: Bureau of Land Management, Interior.

ACTION: Notice of Realty Action, Lease of Public Land.

SUMMARY: Phillip Esai and John Runkle (Applicants) have submitted an application to renew their Commercial Occupancy Lease of public land pursuant to section 302 of the Federal Land Policy and Management Act of 1976 and regulations at 43 CFR Part 2920. The leased land would be used to support the Applicant's commercial hunting operations and their personal traditional and customary subsistence activities.

The land is located approximately 60 miles southeast of McGrath along Khuchaynik Creek at the base of the Trimokish Hills and is more particularly described as follows:

Seward Meridian, AlaskaT. 27 N., R. 27 W., unsurveyed)

Section 35, NE¼SW¼NE¼,

E½NE¼SW¼NE¼Containing approximately 2.0 acres, more or less.

SUPPLEMENTARY INFORMATION: This is a Notice of a proposal to renew an existing lease. No new applications will be accepted.

This Notice of Realty Action proposes to renew a Commercial Occupancy Lease upon which the Applicants have constructed the following improvements on the land:

1 Bunk House

2 Cabins

1 Cook House

1 Log Steam Bath

1 Meat Rack

2 Outhouses

5 Tent Frames

1 Tool Shed

2 Wood Sheds

The Applicants have in their possession the following State and Federal authorizations:

Alaska Business License

Guide Outfitter License

Special Recreation Permit

The proposed lease renewal will be offered to the Applicants for a term of 20 years and will require rent to be paid to the United States at no less than fair market value.

DATES: Interested parties may submit comments for a period of 45 days from the publication of this Notice to the Field Manager, Anchorage Field Office, 6881 Abbott Loop Road, Anchorage, Alaska 99507-2599. In the absence of a timely objection, this proposal shall become the final decision of the Department of the Interior.

FOR FURTHER INFORMATION CONTACT: Shirley Rackley, Anchorage Field Office, Bureau of Land Management, 6881 Abbott Loop Road, Anchorage, Alaska 99507-2599; (907) 267-1289 or (800) 478-1263.

Dated: January 11, 2000.
Nick Douglas,
Field Manager.

[FR Doc. 00-2201 Filed 2-1-00; 8:45 am]

BILLING CODE 4310-JA-M